DEPARTMENT OF DEFENSE

GENERAL SERVICES ADMINISTRATION

NATIONAL AERONAUTICS AND SPACE ADMINISTRATION

48 CFR Part 52

[FAC 2005-72; FAR Case 2010-010; Correction; Docket 2010-0010, Sequence 1]

RIN 9000-AM06

Federal Acquisition Regulation; Service Contracts Reporting Requirements; Correction

AGENCY: Department of Defense (DoD), General Services Administration (GSA), and National Aeronautics and Space Administration (NASA).

ACTION: Final rule; correction.

SUMMARY: DoD, GSA, and NASA are issuing a correction to FAR Case 2010-010; Service Contracts Reporting Requirements (Item I), which was published in the Federal Register at 78 FR 80369, December 31, 2013.

DATES: Effective: January 30, 2014.

FOR FURTHER INFORMATION CONTACT: Mr. Edward Loeb, Procurement Analyst, at 202-501-0650, for clarification of content. For information pertaining to status or publication schedules, contact the Regulatory Secretariat at 202-501-4755. Please cite FAC 2005-72; FAR Case 2010-010; Correction.

SUPPLEMENTARY INFORMATION: DoD, GSA, and NASA published a document in the Federal Register at 78 FR 80369, December 31, 2013, inadvertently section FAR 52.204-15, the clause heading date is incorrectly stated; and in section 52.212-5 the paragraphs have been incorrectly redesignated.

Correction

In rule FR Doc. 2013-31148 published in the Federal Register at 78 FR 80369, December 31, 2013, make the following corrections:

1. On page 80375, in the third column, section 52.204-15, clause heading, correct “JANUARY 30, 2014” to read “JAN 2014”.

2. On page 80376, in the first column, section 52.212-5, under instruction number 10, paragraph b, correct “(b)(51)” and “(b)(53)” to read as “(b)(52)” and “(b)(54)” respectively.

Authority: 40 U.S.C. 121(c); 10 U.S.C. chapter 137; and 51 U.S.C. 20113.

Dated: January 23, 2014.
William Clark,
Acting Director, Office of Government-wide Acquisition Policy, Office of Acquisition Policy, Office of Government-wide Policy.

[FR Doc. 2014-01644 Filed 1-28-14; 8:45 am]

BILLING CODE 6820-EP-P